COMMISSION ON CIVIL RIGHTS

Agenda and Notice of Public Meeting of the Wyoming Advisory Committee

Notice is hereby given, pursuant to the provisions of the rules and regulations of the U.S. Commission on Civil Rights, that a meeting of the Wyoming Advisory Committee to the Commission will convene at 6 p.m. and recess at 8 p.m. on Monday, September 18, 2000. The purpose of the meeting is to hold a briefing on community forum format and background of presenters, and to approve plans for future activities. The Committee will reconvene at 9 a.m. and adjourn at 9 p.m. on Tuesday, September 19, 2000, to hold a community forum to include workshops on education issues affecting minority students in Wyoming public secondary schools. The meeting for both days will be located at the Holiday Inn Express, 1700 E. Valley Road, Torrington, WY 82240.

Persons desiring additional information, or planning a presentation to the Committee, should contact John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, August 15, 2000.
Lisa M. Kelly,
Special Assistant to the Staff Director, Regional Programs Coordination Unit.

[FR Doc. 00-21337 Filed 8-21-00; 8:45 am]

BILLING CODE 6335-01-P